DEPARTMENT OF TRANSPORTATION

Bureau of Transportation Statistics

[Docket BTS-2002-13790]

Notice of Request To Renew Approval of Information

AGENCY: Bureau of Transportation Statistics (BTS), DOT

ACTION: Notice and request for comments.

Collection: OMB No. 2139-0003 (Financial and Operating Statistics for Motor Carriers of Passengers).

OMB Control Numbers: 2139-0003 (Form MP-1, Quarterly and Annual Reports).

SUMMARY: This notice announces that the Bureau of Transportation Statistics (BTS) intends to request the Office of Management and Budget (OMB) to renew approval for the information collection, the Annual and Quarterly Reports for Class I Motor Carriers of Passengers (Form MP-1). This information collection is necessary to ensure that motor carriers comply with financial and operating statistics requirements as prescribed in the BTS regulations (49 CFR 1420). This notice is required by the Paperwork Reduction Act (PRA).

DATES: January 14, 2003.

ADDRESSES: Send comments to the U.S. Department of Transportation, Dockets Management System (DMS). You may submit your comments by fax, Internet, in person or via the U.S. mail to the Docket Clerk, Docket No. BTS-2002-13790, Department of Transportation, 400 Seventh Street, SW., Room PL-401, Washington, DC 20590-0001. Please note that in case of delays in the delivery of U.S. mail to Federal offices in Washington, DC, we recommend that persons consider an alternative method (the Internet, fax, or professional delivery service) to submit comments to the docket and to ensure their timely receipt at U.S. DOT. You may fax your comments to the DMS at (202) 493-2251.

If you wish to file comments using the Internet, you may use the DOT DMS Web site at http://dms.dot.gov. Please follow the online instructions for submitting an electronic comment. Comments should identify the docket number and be submitted in duplicate. If you would like the Department to acknowledge receipt of your comments, you must submit a self-addressed stamped postcard on which the following statement is made: Comments on Docket BTS-2002-13790. The Docket Clerk will date stamp the postcard prior to returning it to you via the U.S. mail. The DMS is open for examination and copying, at the above address, from 9 a.m. to 5 p.m., Monday through Friday, except federal holidays.

FOR FURTHER INFORMATION CONTACT: Paula R. Robinson, Compliance Program Manager, Office of Motor Carrier Information, K-13, Bureau of Transportation Statistics, 400 Seventh Street, SW., Washington, DC 20590-0001; (202) 366-2984; fax: (202) 366-3364; e-mail: paula.robinson@bts.gov.

SUPPLEMENTARY INFORMATION:

I. The Data Collection

The Paperwork Reduction Act of 1995 (44 U.S.C. Chapter 35; as amended) and 5 CFR part 1320 require each Federal agency to obtain an OMB approval to continue an information collection activity for which the agency received prior approval. BTS is seeking OMB approval for the following BTS information collection activity whose prior OMB approval is near the expiration date:

Title: Class I Quarterly and Annual Reports of Motor Carriers of Passengers.

OMB Control Number: 2139-0003.

Form Number: BTS Form MP-1.

Type of Review: Extension of a currently approved collection.

Respondents: Class I Motor Carriers of Passengers.

Number of Respondents: 26.

Estimated Time Per Response: 1.5 hours.

Expiration Date: February 28, 2003.

Frequency: Quarterly and annually.

Total Annual Burden: 195 hours.

Abstract: This report provides financial and operating data. The Department of Transportation uses this information to assess the health of the industry and identify industry changes that may affect national transportation policy. The data also show company financial stability and traffic.

Background: The Quarterly and Annual Reports of Motor Carriers of Passengers (Form MP-1) is a mandated reporting requirement for for-hire Class I motor carriers of passengers. Motor carriers required to comply with the BTS regulations are classified on the basis of their annual gross carrier operating revenues (including interstate and intrastate). Under the financial and operating statistics (F&OS) program the BTS collects balance sheet and income statement data along with information on tonnage, mileage, employees, transportation equipment, and other related data. The data and information collected is made publicly available as prescribed in the BTS regulations (49 CFR 1420). The regulations were formerly administered by Interstate Commerce Commission (ICC), the Interstate Commerce Act, 49 U.S.C. 11145, 49 U.S.C. 11343(d)(1) and the Bus Regulatory Act of 1982 and later transferred to the U.S. Department of Transportation on January 1, 1996, by the ICC Termination Act of 1995 (the Act), 49 U.S.C. 14123.

II. Request for Comments

BTS requests comments on any aspects of these information collections, including (1) the accuracy of the estimated burden; (2) ways to enhance the quality, usefulness, and clarity of the collected information; and (3) ways to minimize the collection burden without reducing the quality of the information collected including additional use of automated collection techniques or other forms of information technology.

Russell B. Capelle, Jr.,
Assistant BTS Director for Motor Carrier Information, Department of Transportation.

[FR Doc. 02-28966 Filed 11-14-02; 8:45 am]

BILLING CODE 4910-FE-P